DEPARTMENT OF THE INTERIOR

Bureau of Land Management

[BLM_CO_FRN_MO#4500174052]

Notice of Public Meeting of the Rocky Mountain Resource Advisory Council, Colorado

AGENCY: Bureau of Land Management, Interior.

ACTION: Notice of public meetings.

SUMMARY: In accordance with the Federal Land Policy and Management Act of 1976 and the Federal Advisory Committee Act of 1972, the U.S. Department of the Interior, Bureau of Land Management (BLM) Rocky Mountain Resource Advisory Council (RAC) is announcing its 2023 fall meeting.

DATES: The Rocky Mountain RAC will meet in-person on November 9, 2023, from 9 a.m. to 11:45 a.m. Mountain Time (MT). A virtual participation option will be available and the meeting is open to the public.

ADDRESSES: The meeting will be held at the BLM's Royal Gorge Field Office, 3028 East Main Street, Cañon City, CO 81212. A virtual option will be offered through the Zoom platform. Registration and participation will be available on the RAC's web page 30 days in advance of the meeting at https://www.blm.gov/get-involved/resource-advisory-council/near-you/colorado/rocky-mountain-rac.

FOR FURTHER INFORMATION CONTACT: Levi Spellman, Public Affairs Specialist; BLM Rocky Mountain District Office, 3028 E. Main St., Canon City, CO, 81212; telephone: (719) 269-8553; email: lspellman@blm.gov. Individuals in the United States who are deaf, deafblind, hard of hearing, or have a speech disability may dial 711 (TTY, TDD, or TeleBraille) to access telecommunications relay services for contacting the BLM. Individuals outside the United States should use the relay services offered within their country to make international calls to the point-of-contact in the United States.

SUPPLEMENTARY INFORMATION: The 15-member Rocky Mountain RAC advises the Secretary of the Interior, through the BLM, on a variety of public land issues in the Rocky Mountain District of Colorado, including the Royal Gorge Field Office, San Luis Valley Field Office, and Browns Canyon National Monument. Agenda topics include the selection of a RAC chairperson and a vote on a proposal to increase recreation fees for sites managed by the Royal Gorge Field Office.

A public comment period is scheduled for 11:05 a.m. MT. Depending on the number of persons wishing to speak and the time available, the amount of time for oral comments may be limited. Written comments for the RAC may be sent electronically in advance of the scheduled meeting to the contact listed in the FOR FURTHER INFORMATION CONTACT section of this notice. Please include “RAC Comment” in your submission. All comments received will be provided to the RAC. Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

Before including your address, phone number, email address, or other personal identifying information in your comment, please be aware that your entire comment—including your personally identifying information—may be made publicly available at any time. While individuals may request their personally identifying information to be withheld from public view, we cannot guarantee that we will be able to do so.

Detailed minutes for the RAC meetings will be maintained in the Rocky Mountain District Office and will be available for public inspection and reproduction during regular business hours within 90 days following the meeting. Previous minutes and agendas are also available on the RAC's web page listed in the ADDRESSES section of this notice.

Authority: 43 CFR 1784.4-2.

Douglas J. Vilsack,
BLM Colorado State Director.

[FR Doc. 2023-21437 Filed 9-28-23; 8:45 am]

BILLING CODE 4311-16-P